DEPARTMENT OF VETERANS AFFAIRS

Tiered Pharmacy Copayments for Medications; Calendar Year 2022 Update

AGENCY: Department of Veterans Affairs.

ACTION: Notice.

SUMMARY: This Department of Veterans Affairs (VA) notice updates the information on Tier 1 medications.

FOR FURTHER INFORMATION CONTACT: Mr. Joseph Duran, Director of Policy and Planning, Office of Community Care (13BOA1), Veterans Health Administration, 3773 Cherry Creek North Drive, Denver, CO 80209, 303-370-1637. This is not a toll-free telephone number.

SUPPLEMENTARY INFORMATION: Section 17.110 of title 38, CFR, governs copayments for medications that VA provides to Veterans. Section 17.110 provides the methodologies for establishing the copayment amount for each 30-day or fewer supply of medication provided by VA on an outpatient basis (other than medication administered during treatment).

Tier 1 medication means a multi-source medication that has been identified using the process described in paragraph (b)(2) of this section. Not less than once per year, VA will identify a subset of multi-source medications as Tier 1 medications. Only medications that meet all of the criteria in 38 CFR 17.110(b)(2)(i), (ii) and (iii) will be eligible to be considered Tier 1 medications, and only those medications that meet all of the criteria in paragraph (b)(2)(i) of this section will be assessed using the criteria in paragraphs (b)(2)(ii) and (iii).

Based on the methodologies set forth in § 17.110, this notice updates the list of Tier 1 medications for Calendar Year 2022. The Tier 1 medication list is posted on VA's Community Care website at the following link: https://www.va.gov/COMMUNITYCARE/revenue_ops/copays.asp under the heading “Tier 1 Copay Medication List.”

The following table is the Tier 1 Copay Medication List that is effective January 1, 2022, and will remain in effect until December 31, 2022.

Condition | VA product name
Arthritis and Pain | Aspirin Buffered Tablet.
| Aspirin Chewable Tablet.
| Aspirin Enteric-Coated (EC) Tablet.
| Allopurinol Tablet.
| Celecoxib Capsule.
| Diclofenac Tablet.
| Ibuprofen Tablet.
| Meloxicam Tablet.
| Naproxen Tablet.
Blood Thinners and Platelet Inhibitors | Clopidogrel Bisulfate Tablet. Warfarin Sodium Tablet.
Cholesterol | Atorvastatin Tablet.
| Ezetimibe Tablet.
| Pravastatin Tablet.
| Rosuvastatin Calcium tablet.
| Simvastatin Tablet.
Dementia | Donepezil Tablet.
Diabetes | Glimepiride Tablet.
| Glipizide Tablet.
| Metformin Hydrochloride (HCL) Tablet.
| Metformin HCL 24-Hour Sustained Action (SA) Tablet.
| Pioglitazone HCL Tablet.
Electrolyte Supplement | Potassium SA Tablet.
| Potassium SA Dispersible Tablet.
Gastrointestinal Health | Famotidine Tablet.
| Omeprazole EC Capsule.
| Pantoprazole Sodium EC Capsule.
| Psyllium Mucilloid.
Glaucoma and Eye Care | Diclofenac Solution.
| Dorzolamide 2%/Timolol 0.5% Solution.
| Latanoprost 0.005% Solution.
| Carboxymethylcellulose Sodium Solution.
Heart Health and Blood Pressure | Amlodipine Tablet. Aspirin (see Arthritis & Pain).
| Atenolol Tablet.
| Carvedilol Tablet.
| Chlorthalidone Tablet.
| Clonidine Tablet.
| Digoxin Tablet.
| Diltiazem 24-Hour Capsule.
| Diltiazem HCL Tablet.
| Furosemide Tablet.
| Hydralazine HCL Tablet.
| Hydrochlorothiazide Tablet/Capsule.
| Hydrochlorothiazide/Lisinopril Tablet.
| Hydrochlorothiazide/Losartan Tablet.
| Hydrochlorothiazide/Triamterene Tablet/Capsule.
| Isosorbide Mononitrate SA Tablet.
| Lisinopril Tablet.
| Losartan Tablet.
| Metoprolol Succinate SA Tablet.
| Metoprolol Tartrate Tablet.
| Nifedipine SA Capsule.
| Nitroglycerin Sublingual Tablet.
| Prazosin HCL Capsule.
| Propranolol HCL Tablet.
| Spironolactone Tablet.
Mental Health | Amitriptyline HCL Tablet.
| Buspirone HCL Tablet.
| Bupropion HCL Tablet.
| Bupropion HCL SA (12-HR-SR) Tablet.
| Bupropion HCL SA (24-HR-XL) Tablet.
| Citalopram Hydrobromide Tablet.
| Duloxetine HCL EC Capsule.
| Escitalopram Oxalate Tablet.
| Fluoxetine Tablet/Capsule.
| Mirtazapine Tablet.
| Olanzapine Immediate Release (IR) Tablet.
| Paroxetine Tablet.
| Sertraline HCL Tablet.
| Trazodone Tablet.
| Venlafaxine HCL IR Tablet.
| Venlafaxine HCL SA Capsule.
Neurologic Disorders | Ropinirole IR Tablet.
Respiratory Condition | Montelukast Sodium Tablet.
Seizures | Gabapentin Capsule.
| Lamotrigine Tablet.
| Topiramate Tablet.
Thyroid Conditions | Levothyroxine Sodium Tablet.
Urologic (Bladder and Prostate) Health | Doxazosin Mesylate Tablet. Finasteride Tablet.
| Oxybutynin Chloride IR tablet.
| Oxybutynin Chloride SA tablet.
| Sildenafil Tablet.
| Tadalafil Tablet.
| Tamsulosin HCL Capsule.
| Terazosin HCL Capsule.

Signing Authority

The Secretary of Veterans Affairs, approved this document on December 14, 2021, and authorized the undersigned to sign and submit the document to the Office of the Federal Register for publication electronically as an official document of the Department of Veterans Affairs.

Jeffrey M. Martin,
Assistant Director, Office of Regulation Policy & Management, Office of General Counsel, Department of Veterans Affairs.

[FR Doc. 2021-28343 Filed 12-29-21; 8:45 am]

BILLING CODE 8320-01-P366